DEPARTMENT OF LABOR

Employment and Training Administration

[TA-W-56,728]

Alcan Packaging, Carton Manufacturing Department, Including On-site Leased Workers of HTSS, on Assignment/Lab Support and Manpower, Bethlehem, PA; Amended Certification Regarding Eligibility to Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on April 20, 2005, applicable to workers of Alcan Packaging, including leased workers of HTSS, Allied Personnel Services, Aerotek, On Assignment/Lab Support, Barton Associates, Synerfac Technical Staffing, Remedy Intelligent Staffing, Accountemps and Office Team, Bethlehem, Pennsylvania. The notice was published in the Federal Register on May 16, 2005 (70 FR 25862).

At the request of a company official and the State agency, the Department reviewed the certification for workers of the subject firm. New information shows that only on-site leased workers of HTSS, On Assignment/Lab Support, and Manpower were employed in the Carton Manufacturing Department, Alcan Packaging, Bethlehem, Pennsylvania.

Based on these findings, the Department is amending this certification to include only on-site leased workers of HTSS, On Assignment/Lab Support and Manpower working at the Carton Manufacturing, Alcan Packaging, Bethlehem, Pennsylvania.

The intent of the Department's certification is to include all workers employed at Alcan Packaging Company, Carton Manufacturing Department who were adversely affected by a shift in production to Canada.

The amended notice applicable to TA-W-56,728 is hereby issued as follows:

“All workers of Alcan Packaging, Carton Manufacturing Department, Bethlehem, Pennsylvania, including on-site leased workers of HTSS, On Assignment/Lab Support, and Manpower, employed in the Carton Manufacturing Department, Alcan Packaging, Bethlehem, Pennsylvania, who became totally or partially separated from employment on or after March 9, 2004, through April 20, 2007, are eligible to apply for adjustment assistance under Section 223 of the Trade Act of 1974, and are also eligible to apply for alternative trade adjustment assistance under Section 246 of the Trade Act of 1974.”

Signed at Washington, DC this 12th day of May 2005.
Richard Church,
Certifying Officer, Division of Trade Adjustment Assistance.

[FR Doc. 05-10548 Filed 5-25-05; 8:45 am]

BILLING CODE 4510-30-M